DEPARTMENT OF THE INTERIOR

Bureau of Land Management

[LLAZ910000.L12100000.XP0000LXSS150A00006100.241A]

Notice of Arizona Recreation Resource Advisory Council Workgroup Meeting

AGENCY: Bureau of Land Management, Interior.

ACTION: Notice of public meeting.

SUMMARY: In accordance with the Federal Land Policy and Management Act of 1976, the Federal Advisory Committee Act of 1972, and the Federal Lands Recreation Enhancement Act of 2004, the U.S. Department of the Interior, Bureau of Land Management (BLM), Arizona Recreation Resource Advisory Council (RRAC) Work Group will meet in Sedona, Arizona, as indicated below.

DATES: June 29, 2011. The RRAC Work Group meeting will be held on June 29 (8 a.m.-5:30 p.m.).

ADDRESSES: The meeting will begin and conclude at the Red Rock Visitor Center, 8375 SR 179, Sedona, Arizona 86351.

FOR FURTHER INFORMATION CONTACT: Connie Birkland, Red Rock Ranger District Public Affairs Specialist, P.O. Box 20429, Sedona, Arizona 86341; phone 928-203-7505, or Dorothea Boothe, BLM RAC Coordinator, One North Central Avenue, Suite 800, Phoenix, Arizona 85004; phone 602-417-9504. Persons who use a telecommunications device for the deaf (TDD) may call the Federal Information Relay Service (FIRS) at 800-877-8339 to contact the above individuals during normal business hours. The FIRS is available 24 hours a day, 7 days a week, to leave a message or question with the above individuals. You will receive a reply during normal business hours.

SUPPLEMENTARY INFORMATION: The 15-member Council advises the Secretary of the Interior, through the BLM, on a variety of planning and management issues associated with public land management in Arizona. In conformance with the Federal Lands Recreation Enhancement Act (Title 16 of the United States Code, Part 6801 et seq.), the U.S. Forest Service (FS) will present a proposal for a change to the Red Rock Pass Program. The RRAC Work Group will review the fee proposal and provide feedback on the information and analysis provided and/or proposal modifications. The FS plans to bring the proposal to the full Arizona RAC at their next meeting in August. The RRAC Work Group's role is to hear the FS fee proposal and public comments and determine if the proposal is ready for consideration by the full RRAC or if additional work is needed. The meeting will begin with a welcome and introduction of the BLM RRAC Work Group and participating FS attendees. A field trip to the Red Rock Pass Program area will follow, and the day will conclude with a presentation and discussion of the Red Rock Pass fee proposal at the Red Rock Visitor Center.

Members of the public are welcome to attend the meeting and field trip. However, the participating public must provide personal transportation for the field trip which is expected to run from 8:45 a.m.-1:45 p.m. The meeting is expected to run from 2-5:30 p.m. A public comment period is scheduled from 3:30-4:15 p.m. for any interested members of the public who wish to address the RRAC Working Group on the Red Rock Pass fee proposal. Written comments may be sent to the RRAC Work Group at the BLM address listed above or by e-mail at ASOWEB_AZ@blm.gov for use at the RRAC Work Group meeting. All comments addressing this meeting will be shared with the BLM Arizona RAC. A final meeting agenda will be available two weeks prior to the meeting and posted on the BLM RAC Web site at: http://www.blm.gov/az/st/en/res/rac.html. Individuals who need special assistance such as sign language interpretation or other reasonable accommodations should contact the BLM RAC Coordinator listed above no later than two weeks before the start of the meeting.

Under the Federal Lands Recreation Enhancement Act, the RAC has been designated as the RRAC, and has the authority to review all BLM and FS recreation fee proposals in Arizona.

James G. Kenna,
State Director.

[FR Doc. 2011-13538 Filed 5-31-11; 8:45 am]

BILLING CODE 4310-32-P